DEPARTMENT OF THE INTERIOR

Fish and Wildlife Service

[FWS-R5-R-2008-N0204; 50133-1265-LKUP; S3]

Lake Umbagog National Wildlife Refuge, Coos County, NH, and Oxford County, ME

AGENCY: Fish and Wildlife Service, Interior.

ACTION: Notice of availability: Final comprehensive conservation plan and environmental impact statement.

SUMMARY: We, the U.S. Fish and Wildlife Service (Service), announce the availability for review of our final comprehensive conservation plan (CCP) and environmental impact statement (EIS) for Lake Umbagog National Wildlife Refuge (NWR). This document describes how we propose to manage the refuge for the next 15 years.

DATES: We will sign a record of decision no sooner than 30 days after the publication of this notice.

ADDRESSES: You may view or obtain copies of the final CCP/EIS by any of the following methods. You may request a print copy or CD-ROM.

Agency Web Site: Download a copy of the document(s) at http://library.fws.gov/ccps.htm.

E-mail: northeastplanning@fws.gov. Include “Lake Umbagog Final CCP/EIS” in the subject line of your message.

Mail: P.O. Box 240, Errol, NH 03579-0240.

In-Person Viewing or Pickup: Call 603-482-3415, ext. 20, to make an appointment during regular business hours at Route 16 North, Errol, NH.

FOR FURTHER INFORMATION CONTACT: For answers to questions about the refuge, contact Paul Casey, Refuge Manager, 603-482-3415, ext. 20, e-mail: paul_casey@fws.gov or, for questions about the planning process, contact Nancy McGarigal, Natural Resource Planner, 413-253-8562, e-mail: northeastplanning@fws.gov. Please remember to put “Lake Umbagog NWR Final CCP/EIS” in the subject line of your message.

SUPPLEMENTARY INFORMATION:

Introduction

Our publishing this notice of availability facilitates the CCP process for Lake Umbagog NWR that we started by publishing a notice of intent in the Federal Register (67 FR 136; July 16, 2002). For more about the process, see that notice. We released the draft CCP/EIS to the public and requested your comments in a notice of availability in the Federal Register (72 FR 129; July 6, 2007).

We are announcing the availability of the final CCP/EIS for Lake Umbagog NWR, and our preferred actions for managing it, in accordance with the National Environmental Policy Act (NEPA) (40 CFR 1506.6(b)). The document contains a thorough analysis of impacts on the human environment. Our next planning step will be to complete a Record of Decision no sooner than 30 days after publication of this notice (40 CFR 1506.10(b)(2)).

The CCP will guide us in managing and administering the refuge for the next 15 years. We propose that alternative B, the Service-preferred alternative, serve as the foundation for the final, stand-alone CCP. We highlight the modifications we made to alternative B between the draft and final CCP/EIS in “Comments,” below.

Our first purchase of land for the refuge established it in 1992. Its purposes are to provide long-term protection for unique wetlands, federal- and state-listed threatened or endangered species, migratory birds of conservation concern, and regionally significant concentrations of wildlife.

This 21,650-acre refuge lies in Coos County, New Hampshire, and Oxford County, Maine. It contains widely diverse types of upland and wetland habitats around the 8,500-acre Umbagog Lake. Since establishing the refuge, we have focused primarily on conserving land within its approved boundary, monitoring the occupancy and productivity of its common loon, bald eagle, and osprey nesting sites and protecting them from human disturbance, conducting baseline biological inventories, and providing public opportunities for wildlife-dependent recreation.

Background

The CCP Process

The National Wildlife Refuge System Improvement Act of 1997 (16 U.S.C. 668dd-668ee; Improvement Act), which amends the National Wildlife Refuge System Administration Act of 1966, requires us to develop a CCP for each national wildlife refuge. The purpose for developing CCPs is to provide refuge managers with 15-year plans for achieving refuge purposes, contributing toward the mission of the National Wildlife Refuge System (NWRS), and conforming to sound principles of fish and wildlife management, conservation, legal mandates, and our policies. In addition to outlining broad management direction on conserving wildlife and their habitats, CCPs identify wildlife-dependent recreational opportunities available to the public: Hunting, fishing, wildlife observation and photography, and environmental education and interpretation. We will review and update the CCP at least once every 15 years, also in accordance with the Improvement Act.

CCP Alternatives

Our draft CCP/EIS (72 FR 129) and this final CCP/EIS fully analyze three alternatives for the future management of the refuge. During the planning process, we identified and addressed 18 major issues generated by several sources: the public, state or federal agencies, other Service programs, and our planning team. Both the draft and final plans identify alternative B as the Service-preferred alternative.

Comments

We solicited comments on the draft CCP/EIS for Lake Umbagog refuge for a 45-day period starting on July 6, 2007 (72 FR 129). In response to requests for additional time, we extended that comment period another 32 days, until September 21, 2007. We held five public hearings and two information sessions during that time, and received 14,269 responses, both oral and written. We evaluated all of the written and electronic correspondence and oral testimony we received, and responded to them in final CCP/EIS appendix O, “Summary of, and the Service's Response to, Public Comments Received on the Draft Comprehensive Conservation Plan and Environmental Impact Statement (Draft CCP/EIS) for Lake Umbagog National Wildlife Refuge.” We present here some of the changes we made in our final CCP/EIS, which are also discussed in appendix O.

1. In response to concerns about local economic impacts, our expansion proposal replaces some fee acquisition with easement acquisition in Maine, and reduces the total number of acres. We now propose to acquire from willing sellers 47,807 acres (formerly, 49,718 acres), and change the acquisition ratio to 56 percent in fee and 44 percent in easement. Appendix A, “Land Protection Plan,” shows our revised proposal.

2. Two new maps clarify our proposal on the roads and trails we would open for public use on both current refuge lands and refuge expansion lands. Chapter 2, “Alternatives Considered, Including the Service-preferred Alternative,” clarifies them in maps 2.8 and 2.9. Item 6, below, describes them.

3. We propose to postpone our decision on whether to manage furbearer species, and whether that management could include trapping. We will conduct further analysis and prepare a more detailed Furbearer Management Plan. That change, which we propose in both alternatives B and C, is included in chapter 2, in the section “Actions Common to Alternatives B and C Only.” Before trapping would be permitted under a Furbearer Management Plan, we will analyze the appropriateness of this use and issue a compatibility determination, if warranted, analyzing whether this use is compatible with the mission of the NWRS and refuge purposes, and under what conditions.

4. We propose to postpone our decision on whether to expand our current hunt program to incorporate bobcat hunting in Maine and turkey hunting in Maine and New Hampshire. That action would have made our hunt program consistent with the states' hunt programs. However, we have determined the need to conduct further analysis, in conjunction with a revised Hunt Plan and environmental assessment, and include additional public comment. We propose that change in both alternatives B and C in the same section of chapter 2. If our hunt program is expanded in the future, we will issue a new compatibility determination with any changes to the current program.

5. The same section of chapter 2 also clarifies our hunting and fishing programs. The public comments we received revealed the misunderstanding that our implementing alternatives B and C would result in new restrictions in our programs. That is not the case. We now provide a better explanation, and point out that we intend to implement the same programs on any newly acquired lands.

6. We revise alternative B to allow certain public uses in designated areas that we originally planned not to allow. Those include dog sledding, horseback riding, bicycling, and collecting certain berries, fiddleheads, mushrooms, and shed antlers for personal use.

7. We modify our proposal in alternatives B and C regarding boat access, by eliminating our original proposals for a boat launch at Sturtevant Pond and major improvements at B Pond. We are scaling back our proposal at B Pond to include a small parking area near the road, away from the shore. We also propose keeping the boat launch at the current refuge headquarters on Route 16 North open to public access, instead of closing it.

Public Availability of Documents

In addition to the methods in ADDRESSES, above, you can view or obtain the documents at the following locations.

• Our Web site, http://library.fws.gov/ccps.htm.

• The Errol Town Library, during regular hours.

Dated: September 24, 2008.
Wendi Weber,
Acting Regional Director, Region 5, U.S. Fish and Wildlife Service, Hadley, MA 01035.

[FR Doc. E8-28649 Filed 12-2-08; 8:45 am]

BILLING CODE 4310-55-P